DEPARTMENT OF THE INTERIOR

Fish and Wildlife Service

[FWS-R2-EA-2021-N172; FX.GO166009NAT21/212/FF02XNAL00; OMB Control Number 1018-New]

Agency Information Collection Activities; U.S. Fish and Wildlife Service External Affairs Tribal Contacts Database

AGENCY: Fish and Wildlife Service, Interior.

ACTION: Notice of information collection; request for comment.

SUMMARY: In accordance with the Paperwork Reduction Act of 1995, we, the U.S. Fish and Wildlife Service (Service), are proposing a new information collection in use without Office of Management and Budget (OMB) approval.

DATES: Interested persons are invited to submit comments on or before October 12, 2021.

ADDRESSES: Send your comments on the information collection request (ICR) by mail to the Service Information Collection Clearance Officer, U.S. Fish and Wildlife Service, MS: PRB (JAO/3W), 5275 Leesburg Pike, Falls Church, VA 22041-3803 (mail); or by email to Info_Coll@fws.gov. Please reference OMB Control Number “1018-Tribal Contacts” in the subject line of your comments.

FOR FURTHER INFORMATION CONTACT: To request additional information about this ICR, contact Madonna L. Baucum, Service Information Collection Clearance Officer, by email at Info_Coll@fws.gov, or by telephone at (703) 358-2503. Individuals who are hearing or speech impaired may call the Federal Relay Service at 1-800-877-8339 for TTY assistance.

SUPPLEMENTARY INFORMATION: In accordance with the Paperwork Reduction Act (PRA, 44 U.S.C. 3501 et seq.) and its implementing regulations at 5 CFR 1320, all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: In support of Executive Order 13175, “Consultation and Coordination With Indian Tribal Governments” (November 6, 2000), Presidential Memorandum “Tribal Consultation and Strengthening Nation-to-Nation Relationships” (January 26, 2021), and Secretarial Order 3335, “Reaffirmation of the Federal Trust Responsibility to Federally Recognized Indian Tribes and Individual Indian Beneficiaries” (August 20, 2014), the Service strives to strengthen its government-to-government relationship with Indian Tribes through a commitment to consultation with and recognition of their right to self-governance and Tribal sovereignty. Coordination with and on the behalf of Tribes is some of the most important work the Service does. Within that work, the Service bears the large responsibility to ensure that it is consistently and accurately working on a government-to-government basis with each Tribe and its delegated program staff.

An ongoing challenge in this endeavor is ensuring that Tribal contact information is accurate and up to date, because using outdated contact information when coordinating with Tribes serves to undermine the integrity of the Service's Tribal trust responsibility. To help maintain the integrity in our outreach and collaborative work with Tribes, the Service's Southwest (SW) Region Office of External Affairs (EA) has identified the need to have a regionally based contacts database for Tribes that can be expanded both nationally and to other regions in the future if such need should arise. In addition, the Service will solicit information from the Tribal contacts regarding their Tribal priorities and/or interests in relation to Service programs and periodic updates to those priorities and/or interests.

The Service plans to solicit a contract opportunity for the development of a Tribal contacts database for the SW Region to facilitate improved collaboration with Tribes. This database would need to be accessible by Service staff and will be updated in real time with information from Tribal contacts. In addition, the database will contain a significant geospatial component to help ensure that the contacts data can easily be integrated with various geographic datasets representing content that is of mutual interest to the Tribes and the Service, such as areas in which an endangered species may exist within Tribal lands.

Types of data collected from Tribal contacts to be maintained within the database include:

General Tribe Information:

• Official Tribe name (or other name, if different from Federally recognized Tribe name);

• Tribal contact information, to include mailing address, phone number, and official website;

• Relevant cultural information;

• Tribal interest in FWS program;

• Tribal priorities; and

• Additional relevant notes.

Tribal Contact Information:

• Tribal contact/staff name(s); preferred salutation, job title, and contact information;

• Type of contact (Tribal leader; Tribal historic preservation officer; person in a cultural, legal, grants, fiscal role, etc.);

• Tribal department;

• Type of work (as related to Service-related projects);

• Specialization (e.g., eagles, Mexican wolves, etc.); and

• Additional relevant notes.

Species of Interest:

• Scientific name; and

• Common name.

State/Other Government Tribal Liaisons:

• Agency name and department;

• Contact information, to include mailing address, phone number, and email address;

• Specialization (e.g., eagles, Mexican wolves, etc.);

• Type of work (as related to Service-related projects); and

• Additional relevant notes.

The Service will use the database to effectively and efficiently uphold its Federal Trust responsibility to Tribes through ensuring the integrity of the contact data needed to do so. Tribal leader information will be collected from the Bureau of Indian Affairs as a baseline but will be updated through our own working knowledge of changes/needed revisions. Another purpose of this database is to better identify Service actions of interest to Federally recognized Tribes.

Title of Collection: U.S. Fish and Wildlife Service External Affairs Tribal Contacts Database.

OMB Control Number: 1018-New.

Form Number(s): None.

Type of Review: Existing collection in use without an OMB control number.

Respondents/Affected Public: State and Tribal government representatives.

Respondent's Obligation: Voluntary.

Frequency of Collection: On occasion for initial submission, and during subsequent updates to data.

Total Estimated Annual Nonhour Burden Cost: None.

Requirement | Average number of annual respondents | Average number of responses each | Average number of annual responses* | Average completion time per response | Estimated Annual burden hours*
Solicitation of General Tribe/Tribal Contact Information
Government | 87 | 1 | 87 | 5 mins | 7
Updates to General Tribe/Tribal Contact Information
Government | 8 | 1 | 8 | 5 mins | 1
Solicitation of Tribal Priorities and/or Interests in Relation to FWS Programs
Government | 87 | 1 | 87 | 5 mins | 7
Updates to Tribal Priorities and/or Interests in Relation to FWS Programs
Government | 8 | 1 | 8 | 5 mins | 1
Totals: | 190 |  | 190 |  | 16
* Rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2021-17097 Filed 8-10-21; 8:45 am]

BILLING CODE 4333-15-P